DEPARTMENT OF LABOR

Employment and Training Administration

[TA-W-55,826]

Dendrite International Stroudsburg, PA; Notice of Affirmative Determination Regarding Application for Reconsideration

By application of December 14, 2004, petitioners requested administrative reconsideration of the Department of Labor's Notice of Negative Determination Regarding Eligibility to Apply for Worker Adjustment Assistance, applicable to workers of the subject firm. The Department's negative determination was signed on November 18, 2004. The Notice of determination was published in the Federal Register on December 9, 2004 (69 FR 71428).

The petitioner asserts that the workers produce an article, licensed pharmaceutical sales software which is sold to third-party customers in a physical medium (CD or flash cards).

The Department has carefully reviewed the petitioner's request for reconsideration and has determined that the Department will conduct further investigation based on new information provided by the petitioner and the company official.

Conclusion

After careful review of the application, I conclude that the claim is of sufficient weight to justify reconsideration of the Department of Labor's prior decision. The application is, therefore, granted.

Signed at Washington, DC, this 31st day of January 2005.
Elliott S. Kushner,
Certifying Officer, Division of Trade Adjustment Assistance.

[FR Doc. 05-3354 Filed 2-18-05; 8:45 am]

BILLING CODE 4510-30-M